INTERNATIONAL TRADE COMMISSION

[Investigation Nos. 701-TA-515-521 and 731-TA-1251-1257 (Preliminary)]

Certain Steel Nails From India, Korea, Malaysia, Oman, Taiwan, Turkey, and Vietnam

Determinations

On the basis of the record ¹ developed in the subject investigations, the United States International Trade Commission (Commission) determined, pursuant to sections 703(a) and 733(a) of the Tariff Act of 1930 (19 U.S.C. 1671b(a) and 1673b(a)) (the Act), that there is a reasonable indication that an industry in the United States is materially injured by reason of imports from Korea, Malaysia, Oman, Taiwan, and Vietnam of certain steel nails, provided for in subheading 7317.00.55, 7317.00.65, and 7317.00.75 of the Harmonized Tariff Schedule of the United States, that are alleged to be sold in the United States at less than fair value (“LTFV”), and that are allegedly subsidized by the Governments of Korea, Malaysia, Oman, Taiwan, and Vietnam.²

¹ The record is defined in sec. 207.2(f) of the Commission's Rules of Practice and Procedure (19 CFR § 207.2(f)).

² Commissioner F. Scott Kieff recused himself from these investigations.

The Commission further determined that imports of these products from India and Turkey are negligible pursuant to section 771(24) of the Act (19 U.S.C. 1677(24)). The Commission consequently terminated its investigations concerning steel nails from India and Turkey.

Commencement of Final Phase Investigations

Pursuant to section 207.18 of the Commission's rules, the Commission also gives notice of the commencement of the final phase of its investigations of steel nails from Korea, Malaysia, Oman, Taiwan, and Vietnam. The Commission will issue a final phase notice of scheduling, which will be published in the Federal Register as provided in section 207.21 of the Commission's rules, upon notice from the Department of Commerce (Commerce) of affirmative preliminary determinations in these investigations under sections 703(b) or 733(b) of the Act, or, if the preliminary determinations are negative, upon notice of affirmative final determinations in these investigations under sections 705(a) or 735(a) of the Act. Parties that filed entries of appearance in the preliminary phase of the investigations need not enter a separate appearance for the final phase of the investigations to which they are parties. Industrial users, and, if the merchandise under investigation is sold at the retail level, representative consumer organizations have the right to appear as parties in Commission antidumping and countervailing duty investigations. The Secretary will prepare a public service list containing the names and addresses of all persons, or their representatives, who are parties to the investigations.

Background

On May 29, 2014, a petition was filed with the Commission and Commerce by Mid Continent Nail Corporation, Poplar Bluff, MO, alleging that an industry in the United States is materially injured or threatened with material injury by reason of LTFV and subsidized imports of certain steel nails from India, Korea, Malaysia, Oman, Taiwan, Turkey, and Vietnam. Accordingly, effective May 29, 2014, the Commission instituted countervailing duty investigation Nos. 701-TA-515-521 and antidumping duty investigation Nos. 731-TA-1251-1257 (Preliminary).

Notice of the institution of the Commission's investigations and of a public conference to be held in connection therewith was given by posting copies of the notice in the Office of the Secretary, U.S. International Trade Commission, Washington, DC, and by publishing the notice in the Federal Register of June 4, 2014 (79 FR 32311). The conference was held in Washington, DC, on June 19, 2014, and all persons who requested the opportunity were permitted to appear in person or by counsel.

The Commission transmitted its determinations in these investigations to the Secretary of Commerce on July 14, 2014. The views of the Commission are contained in USITC Publication 4480 (July 2014), entitled Certain Steel Nails from India, Korea, Malaysia, Oman, Taiwan, Turkey, and Vietnam (Investigation Nos. 701-TA-515-521 and 731-TA-1251-1257).

By order of the Commission.
Issued: July 14, 2014.
Lisa R. Barton,
Secretary to the Commission.

[FR Doc. 2014-16880 Filed 7-17-14; 8:45 am]

BILLING CODE 7020-02-P